DEPARTMENT OF ENERGY

Federal Energy Regulatory Commission

[P-14803-001]

Klamath River Renewal Corporation; PacifiCorp; Notice of Availability of the Final Environmental Impact Statement for the Surrender, Decommissioning, and Removal of the Lower Klamath Hydroelectric Project

In accordance with the National Environmental Policy Act of 1969 and the Federal Energy Regulatory Commission's (Commission) regulations, 18 CFR part 380, the Office of Energy Projects has reviewed the application for surrender of license and removal of project works for the Lower Klamath Hydroelectric Project No. 14803 and has prepared a final environmental impact statement (EIS).¹ The project is located on the Klamath River in Klamath County, Oregon, and in Siskiyou County, California. The project occupies approximately 400 acres of federal lands. These federal lands are administered by the U.S. Department of the Interior, Bureau of Land Management (BLM).

¹ On April 20, 2022, the Council on Environmental Quality (CEQ) issued a final rule, National Environmental Policy Act Implementing Regulations Revisions (Final Rule, 87 FR 23453), which was effective as of May 20, 2022. Accordingly, Commission staff prepared this EIS in accordance with CEQ's new regulations.

The final EIS contains staff evaluations of the applicant's proposal and the alternatives for surrender of the Lower Klamath Project. The final EIS documents the views of governmental agencies, non-governmental organizations, affected Indian Tribes, the public, the applicants, and Commission staff.

In this notice, we acknowledge the number of pages in this final EIS exceeds the final EIS page limits set forth in CEQ's Final Rule for proposals of unusual scope or complexity. Noting the scope and complexity of this proposal, the Director of the Office of Energy Projects, as our senior agency official, has authorized this page limit exceedance for the final EIS.

In addition to publishing the full text of this document in the Federal Register, the Commission provides all interested persons with an opportunity to view and/or print the final EIS via the internet through the Commission's Home Page (http://www.ferc.gov/), using the “eLibrary” link. Enter the docket number, excluding the last three digits in the docket number field, to access the document. At this time, the Commission has suspended access to the Commission's Public Reference Room, due to the proclamation declaring a National Emergency concerning the Novel Coronavirus Disease (COVID-19), in a Presidential proclamation issued on March 13, 2020. For assistance, contact FERC Online Support at FERCOnlineSupport@ferc.gov, or toll-free at (866) 208-3676, or for TTY, (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: August 26, 2022.
Kimberly D. Bose,
Secretary.

[FR Doc. 2022-18945 Filed 8-31-22; 8:45 am]

BILLING CODE 6717-01-P